FEDERAL COMMUNICATIONS COMMISSION

Public Information Collections Approved by Office of Management and Budget

March 1, 2005.

SUMMARY: The Federal Communications Commission (FCC) has received Office of Management and Budget (OMB) approval for the following public information collections pursuant to the Paperwork Reduction Act of 1995, Public Law 104-13. An agency may not conduct or sponsor and a person is not required to respond to a collection of information unless it displays a currently valid control number.

FOR FURTHER INFORMATION CONTACT: Dana Jackson, Federal Communications Commission, 445 12th Street, SW., Washington DC 20554, (202) 418-2247 or via the Internet at Dana.Jackson@fcc.gov.

SUPPLEMENTARY INFORMATION: OMB Control No.: 3060-0665.

OMB Approval date: December 10, 2004.

Expiration Date: December 31, 2007.

Title: Section 64.707, Public Dissemination of Information by Providers of Operator Services.

Form No.: N/A.

Estimated Annual Burden: 436 responses; 1,744 total annual burden hours; 4 hours average per response.

Needs and Uses: As required by 47 U.S.C. 226(d)(4)(b), 47 CFR 64.707 provides that operator service providers must regularly publish and make available upon request from consumers written materials that describe any changes in operator services and choices available to consumers. Consumers use the information to increase their knowledge of the choices available to them in the operator services marketplace.

OMB Control No.: 3060-0973.

OMB Approval date: December 10, 2004.

Expiration Date: December 31, 2007.

Title: Section 64.1120(e)—Sale or Transfer of Subscriber Base to Another Carrier, CC Dockets 00-257 and 94-129.

Form No.: N/A.

Estimated Annual Burden: 75 responses; 450 total annual burden hours; 6 hours average per response.

Needs and Uses: Pursuant to 47 CFR 64.1120(e), an acquiring carrier will self-certify to the Commission, in advance of the transfer, that the carrier will comply with the required procedrues, including giving advance notice to the affected subscribers in a manner that ensures the protection of their interests. By streamlining the carrier changes rules, the Commission will continue to protect consumers' interests and, at the same time, will ensure that its rules do not inavertently inhibit routine business transactions.

On July 16, 2004, the Commission released a First Order on Reconsideration and Fourth Order on Reconsideration which made a minor modification to 47 CFR 64.1120(e)(3)(iii).

Federal Communications Commission.
Marlene H. Dortch,
Secretary.

[FR Doc. 05-4508 Filed 3-7-05; 8:45 am]

BILLING CODE 6712-01-P